DEPARTMENT OF THE TREASURY

Internal Revenue Service

Open Meeting of Citizen Advocacy Panel, Midwest District

AGENCY: Internal Revenue Service (IRS), Treasury.

ACTION: Notice.

SUMMARY: A meeting of the Midwest Citizen Advocacy Panel will be held in Milwaukee, Wisconsin.

DATES: The meeting will be held Thursday, March 22, 2001, and Friday, March 23, 2001.

FOR FURTHER INFORMATION CONTACT: Sandra McQuin at 1-888-912-1227, or 414-297-1604.

SUPPLEMENTARY INFORMATION: Notice is hereby given pursuant to Section 10(a)(2) of the Federal Advisory Committee Act, 5 U.S.C. App. (1988) that an open meeting of the Citizen Advocacy Panel (CAP) will be held Thursday, March 22, 2001, from 9:00 a.m. to 4:00 p.m. and Friday, March 23, 2001, from 8:00 a.m. to Noon at the Reuss Federal Building, Meeting Room 290B, 310 West Wisconsin Avenue, Milwaukee, WI. The Citizen Advocacy Panel is soliciting public comment, ideas, and suggestions on improving customer service at the Internal Revenue Service. Public comments will be welcome during the meeting, or you can submit written comments to the panel by faxing to (414) 297-1623, or by mail to Citizen Advocacy Panel, Mail Stop 1006 MIL, 310 West Wisconsin Avenue, Milwaukee, WI 53203-2221.

The Agenda will include the following: Reports by the CAP sub-groups, presentation of taxpayer issues by individual members, discussion of issues, and an update on the recruitment for new panel members.

Note: Last minute changes to the agenda are possible and could prevent effective advance notice.

Dated: February 26, 2001.
M. Cathy VanHorn,
Director, Citizen Advocacy Panel (CAP) Communication and Liaison.

[FR Doc. 01-5286 Filed 3-2-01; 8:45 am]

BILLING CODE 4830-01-P